OFFICE OF PERSONNEL MANAGEMENT

[OMB No. 3206-0040]

Submission for OMB Review; Comment Request for Revised Information Collection: OPM Form 1203-FX, and Discontinuation of: OPM Form 1203-EZ

AGENCY: Office of Personnel Management.

ACTION: Notice.

SUMMARY: In accordance with the Paperwork Reduction Act of 1995 (Pub. L. 104-13, May 22, 1995), this notice announces that the Office of Personnel Management (OPM) submitted to the Office of Management and Budget a request for review of a revised information collection for Occupational Questionnaire (OPM Forms 1203-FX and 1203-EZ). The Occupational Questionnaire is an optical scan form designed to collect applicant information and qualifications in a format suitable for automated processing and to create applicant records for an automated examining system. Each version of this form contains a unique scan form identifier in the upper left-hand corner for the scanning equipment to recognize which version is being used. The 1203 series was commonly referred to as the Qualifications and Availability Form C. OPM has re-titled the series as Occupational Questionnaire, to fit a more generic need. OPM uses these forms to carry out its responsibility for open competitive examining for admission to the competitive service in accordance with section 3304, of title 5, United States Code.

OPM has not revised the Form 1203-FX Occupational Questionnaire commonly referred to as Form C. Upon clearance from the Office of Management and Budget in 2002, the Occupational Questionnaire was available via OPM's Web site and OPM's USAJOBS Web site. OPM Form 1203-EZ is a three page version that is shorter and was previously approved by OMB in 2002. The approved OPM Form1203-EZ is being discontinued because over the past two years the form was not used.

The Form 1203 FX version allowed the applicant to transmit information via facsimile, mail, or the Internet using a fillable Adobe Acrobat Reader (PDF) file. The public reporting burden of collecting this information is estimated to vary from 20 minutes to 45 minutes. The average time to complete this form is 30 minutes. Over the past three years an annual average of 54,202 applicants used Form 1203-FX for a public burden of 27,101 hours per year.

A comment request for these forms was published in the Federal Register on November 9, 2005 [FR Vol. 70, No. 216]. During the initial 60-day comment request period, OPM received only one comment from the Department of the Treasury: “None [bureaus] are using the three-page version, OPM Form 1203-EZ; therefore, we have no objections to OPM's plans to discontinue this three-page version.” Further, “* * * we definitely do see the need for continued use of the regular OPM Form 1203-FX, and are glad to hear that OPM plans to continue its availability.”

For copies of this proposal, contact Mary Beth Smith-Toomey on 202-606-8358, fax at 202-418-3251, or e-mail at mbtoomey@opm.gov. Please include a mailing address with your request.

DATES: Comments on this proposal should be received within 30 days from the date of this publication.

ADDRESSES: Send or deliver comments to—

U.S. Office of Personnel Management, Division of Human Resources Products and Services, Center for Talent Services, ATTN: Charles Conyers, 1900 E Street, NW., Room 1425, Washington, DC 20415-9820, E-mail: charles.conyers@opm.gov

and

Brenda Aguilar, OPM Desk Officer, Office of Management & Budget, Office of Information & Regulatory Affairs, New Executive Office Building, NW., Room 10235, Washington, DC 20503.

U.S. Office of Personnel Management.
Dan G. Blair,
Deputy Director.

[FR Doc. E6-20554 Filed 12-4-06; 8:45 am]

BILLING CODE 6325-38-P